DEPARTMENT OF THE TREASURY

Submission for OMB Review; Comment Request

October 13, 2010.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

Dates: Written comments should be received on or before November 18, 2010 to be assured of consideration.

Internal Revenue Service (IRS)

OMB Number: 1545-0112.

Type of Review: Extension without change to a currently approved collection.

Title: Form 1099-INT, Interest Income.

Form: 1099-INT.

Abstract: This form is used for reporting interest income paid, as required by sections 6049 and 6041 of the Internal Revenue Code. It is used to verify that payees are correctly reporting their income.

Respondents: Private Sector: Businesses or other for-profits.

Estimated Total Burden Hours: 63,677,672 hours.

OMB Number: 1545-0747.

Type of Review: Revision of a currently approved collection.

Title: IRA Contribution Information.

Form: 5498.

Abstract: Form-5498 is used by trustees and issuers to report contributions to, and the fair market value of, an individual retirement arrangement (IRA).

Respondents: Private Sector: Businesses or other for-profits.

Estimated Total Burden Hours: 47,109,000 hours.

Bureau Clearance Officer: R. Joseph Durbala, Internal Revenue Service, 1111 Constitution Avenue, NW., Room 6129, Washington, DC 20224; (202) 622-3634.

OMB Reviewer: Shagufta Ahmed, Office of Management and Budget, New Executive Office Building, Room 10235, Washington, DC 20503; (202) 395-7873.

Dawn D. Wolfgang,
Treasury PRA Clearance Officer.

[FR Doc. 2010-26325 Filed 10-18-10; 8:45 am]

BILLING CODE 4830-01-P